DEPARTMENT OF DEFENSE

GENERAL SERVICES ADMINISTRATION

NATIONAL AERONAUTICS AND SPACE ADMINISTRATION

48 CFR Chapter 1

[Docket FAR-2007-0002, Sequence 7]

Federal Acquisition Regulation; Federal Acquisition Circular 2005-22; Introduction

AGENCIES: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council in this Federal Acquisition Circular (FAC) 2005-22. A companion document, the Small Entity Compliance Guide (SECG), follows this FAC. The FAC, including the SECG, is available via the Internet at http://www.regulations.gov.

DATES: For effective dates and comment dates, see separate documents, which follow.

FOR FURTHER INFORMATION CONTACT The analyst whose name appears in the table below in relation to each FAR case. Please cite FAC 2005-22 and the specific FAR case number(s). For information pertaining to status or publication schedules, contact the FAR Secretariat at (202) 501-4755.

List of Rules in FAC 2005-22
Item | Subject | FAR case | Analyst
I | Implementation of Section 104 of the Energy Policy Act of 2005 | 2006-008 | Clark.
II | Contractor Code of Business Ethics and Conduct | 2006-007 | Woodson.

SUPPLEMENTARY INFORMATION: Summaries for each FAR rule follow. For the actual revisions and/or amendments to these FAR cases, refer to the specific item number and subject set forth in the documents following these item summaries.

FAC 2005-22 amends the FAR as specified below:

Item I—Implementation of Section 104 of the Energy Policy Act of 2005 (FAR Case 2006-008)

This final rule implements Section 104 of the Energy Policy Act of 2005. Section 104 requires that all acquisitions of energy consuming-products and all contracts that involve the furnishing of energy-consuming products require acquisition of ENERGY STAR® or Federal Energy Management Program (FEMP) designated products. The final rule provides a clause for the Contracting Officer to insert in solicitations and contracts to ensure that suppliers and service and construction contractors recognize when energy-consuming products must be ENERGY STAR® or FEMP-designated.

Item II—Contractor Code of Business Ethics and Conduct (FAR Case 2006-007)

This final rule amends Federal Acquisition Regulation (FAR) Parts 2, 3, and 52 to address the requirements for a contractor code of business ethics and conduct and the display of Federal agency Office of the Inspector General (OIG) Fraud Hotline Posters. In response to public comments, this final rule reduces the burden on small entities by making the requirements for a formal training program and internal control system inapplicable to small businesses. If a small business subsequently finds itself in trouble ethically during the performance of a contract, the need for a training program and internal controls will likely be addressed by the Federal Government at that time, during a criminal or civil lawsuit or debarment or suspension.

Dated: November 16, 2007.
Al Matera,
Director, Office of Acquisition Policy.

Federal Acquisition Circular

Federal Acquisition Circular (FAC) 2005-22 is issued under the authority of the Secretary of Defense, the Administrator of General Services, and the Administrator for the National Aeronautics and Space Administration.

Unless otherwise specified, all Federal Acquisition Regulation (FAR) and other directive material contained in FAC 2005-22 is effective December 24, 2007.

Dated: November 15, 2007.
Shay D. Assad,
Director, Defense Procurement and Acquisition Policy.

Dated: November 16, 2007.
Al Matera,
Acting Deputy Chief Acquisition Officer, Office of the Chief Acquisition Officer, General Services Administration.

Dated: November 14, 2007.
William P. McNally,
Assistant Administrator for Procurement, National Aeronautics and Space Administration.

[FR Doc. 07-5798 Filed 11-21-07; 8:45 am]

BILLING CODE 6820-EP-S